DEPARTMENT OF THE TREASURY

Customs Service

Notice of Revocation of Customs Broker Permit

AGENCY: Customs Service, Department of the Treasury.

ACTION: General notice.

SUMMARY: Pursuant to section 641 of the Tariff Act of 1930 as amended (19 U.S.C. 1641) and the Customs Regulations (19 CFR 111.45(b)), the following Customs Broker Permit is revoked by operation of law.

Name | Permit No. | Issuing Port
Port Brokers, Inc. | 3974 | San Francisco.

Dated: January 13, 2003.
Jayson P. Ahern,
Assistant Commissioner, Office of Field Operations.

[FR Doc. 03-1278 Filed 1-21-03; 8:45 am]

BILLING CODE 4820-02-P